DEPARTMENT OF THE INTERIOR

Minerals Management Service (MMS)

Outer Continental Shelf (OCS) Policy Committee of the Minerals Management Advisory Board; Notice and Agenda for Meeting

AGENCY: Minerals Management Service, Interior.

SUMMARY: The OCS Policy Committee of the Minerals Management Advisory Board will meet at the Atlantic Oakes Hotel in Bar Harbor, Maine, on May 16-17, 2000.

The agenda will cover the following principal subjects:

National Energy Overview. This presentation will address the price forecast and ramifications of high prices on the economy.

National Petroleum Council's Natural Gas Study Results. This panel presentation will address the final results of the Study, Meeting the Challenges of the Nation's Growing Natural Gas Demand.

North Atlantic Energy Issues—Regional Energy Profile. This panel presentation will address how the New England States are impacted by increases in oil prices and Canadian offshore activities.

North Atlantic Energy Issues—Implications of Canadian Activity on New England. This panel presentation will address the status of development offshore Nova Scotia and Newfoundland. It will also address the gas line from the Scotian Shelf through Maine, including a discussion of routing considerations and environmental impacts.

Gulf of Maine Ocean Observing System. This presentation will address the ocean technology/communications proposal to provide real time ocean information from satellites and buoys to a broad array of users. Similar systems are being developed around the country, and will likely have useful applications for the offshore oil and gas industry.

Hard Minerals Update. This presentation will provide an update on subcommittee activities, the status of the potential commercial sand and gravel lease offering offshore New Jersey, and other pertinent hard minerals information.

OCS Sand and Gravel Coastal Issues. This presentation will address the status and purpose of the National Coastal Study which has been authorized under the Fiscal Year 2000 Water Resources Development Act; current funding and initiatives of the sand and gravel program; and regional initiatives being pursued for beach nourishment.

Deepwater Gulf of Mexico. This panel presentation will address floating production, storage and offloading systems, and methane hydrates.

Impact Assistance Update. This presentation will provide an update on the status of the Conservation and Reinvestment Act, the Lands Legacy proposal, and any other pertinent information related to this issue.

Congressional Update. This presentation will focus on the status of timely congressional issues related to the OCS Program.

MMS Regional Updates. The Regional Directors will highlight activities in the Gulf of Mexico (GOM) and off the California and Alaska coasts.

OCS Scientific Committee Update. This presentation will provide an update on the activities of the Scientific Committee. It will also highlight the activities that are related to energy issues/concerns, North Atlantic activity, GOM deepwater activity, hard mineral activity, and other topics that are relevant to both Committees.

The meeting is open to the public. Upon request, interested parties may make oral or written presentations to the OCS Policy Committee. Such requests should be made no later than May 10, 2000, to the Minerals Management Service, 381 Elden Street, MS-4001, Herndon, Virginia, 20170, Attention: Jeryne Bryant.

Requests to make oral statements should be accompanied by a summary of the statement to be made. For more information, call Jeryne Bryant at (703) 787-1211.

Minutes of the OCS Policy Committee meeting will be available for public inspection and copying at the MMS in Herndon, Virginia.

DATES: Tuesday, May 16 and Wednesday, May 17, 2000.

ADDRESSES: The Atlantic Oakes Hotel, 119 Eden Street, Bar Harbour, Maine 04609, (207) 288-5801.

FOR FURTHER INFORMATION CONTACT: Jeryne Bryant at the address and phone number listed above.

Authority: Federal Advisory Committee Act, Public Law 92-463, 5 U.S.C. Appendix 1, and the Office of Management and Budget's Circular No. A-63, Revised.

Dated: April 24, 2000.
Carolita U. Kallaur,
Associate Director for Offshore Minerals Management.

[FR Doc. 00-10532 Filed 4-26-00; 8:45 am]

BILLING CODE 4310-MR-M